DEPARTMENT OF COMMERCE

International Trade Administration

[A-821-809]

Notice of Extension of Time Limit for the Preliminary Results of Administrative Review of the Suspension Agreement on Hot-Rolled Flat-Rolled Carbon-Quality Steel Products from the Russian Federation

AGENCY: Import Administration, International Trade Administration, Department of Commerce.

ACTION: Notice of Extension of Time Limit for the Preliminary Results of Administrative Review of the Suspension Agreement on Hot-Rolled Flat-Rolled Carbon-Quality Steel Products from the Russian Federation.

SUMMARY: The Department of Commerce (the Department) is extending the time limit for the preliminary results of the administrative review of the Agreement Suspending the Antidumping Investigation on Hot-Rolled Flat-Rolled Carbon-Quality Steel Products from the Russian Federation (the Agreement).

DATES: Effective Date: April 2, 2012.

FOR FURTHER INFORMATION CONTACT: Sally C. Gannon or Anne D'Alauro, Import Administration, International Trade Administration, U.S. Department of Commerce, 14th Street and Constitution Avenue, NW., Washington, DC 20230, telephone: (202) 482-0162 or (202) 482-4830. Extension of Preliminary Results: The Department published its notice of initiation of this review in the Federal Register on August 26, 2011. See Initiation of Antidumping and Countervailing Duty Administrative Reviews and Requests for Revocation in Part, 76 FR 53404 (August 26, 2011). Pursuant to the time limits for administrative reviews set forth in section 751(a)(3)(A) of the Tariff Act of 1930, as amended (the Tariff Act), the current deadlines are April 2, 2012, for the preliminary results and July 31, 2012, for the final results. Section 751(a)(3)(A) of the Tariff Act provides that, if it is not practicable to complete the review within these time limits, the Department may extend the time limit for completion of the preliminary results by 120 days.

The Department finds that it is not practicable to complete the preliminary results by April 2, 2012. In this administrative review, in accordance with section 751(a)(1)(C) of the Tariff Act, the Department is reviewing both the status of, and compliance with, the Agreement. Because domestic interested parties have raised the complex issue of whether the Agreement is fulfilling its statutory requirement to prevent price undercutting and suppression of domestic hot-rolled steel prices, the Department needs additional time to complete its preliminary analysis in this administrative review of the Agreement. The Department must carefully consider the information submitted by the respondent and domestic interested parties in this review and must address the issues raised in the context of this administrative review. Therefore, the Department is extending the time limit for completing the preliminary results of the review until May 24, 2012. The deadline for the final results of this review will continue to be 120 days after publication of the preliminary results.

This extension is published in accordance with section 751(a)(3)(A) of the Tariff Act.

Dated: March 27, 2012.
Ronald K. Lorentzen,
Deputy Assistant Secretary for Import Administration.

[FR Doc. 2012-7861 Filed 3-30-12; 8:45 am]

BILLING CODE 3510-DS-P